DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Crab Cost Recovery.

OMB Control Number: 0648-0570.

Form Number(s): NA.

Type of Request: Regular submission (revision and extension of a current information collection.

Number of Respondents: 44.

Average Hours per Response: Registered crab receiver fee submission form, 30 minutes. Ex-vessel value and volume report, 2 hours.

Burden Hours: 110.

Needs and Uses: This request is for revision and extension of a current information collection. Fishery Management Plans (FMP) are developed under the authority of the Magnuson-Stevens Fishery Conservation and Management Act (16 U.S.C. 1801 et seq.) The FMP for Bering Sea and Aleutian Islands (BSAI) Crab includes the Crab Rationalization (CR) Program, a limited access system that allocates BSAI Crab resources among harvesters, processors, and coastal communities. The intent of the Alaska Crab Cost Recovery is to monitor crab landings in the BSAI crab fisheries through receipt of reports and provide for cost recovery payment of fees for all CR crab received.

Revision: The Eligible Crab Community Organization annual report has been moved to OMB Control No. 0648-0514, Alaska Region Bering Sea and Aleutian Island Crab Permits, as that collection is a better fit.

Affected Public: Businesses or other for-profit organizations.

Frequency: Annually.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 7, 2014.
Gwellnar Banks,
Management Analyst, Office of the Chief Information Officer.

[FR Doc. 2014-00294 Filed 1-10-14; 8:45 am]

BILLING CODE 3510-22-P